DEPARTMENT OF HEALTH AND HUMAN SERVICES

National Institutes of Health

Center for Scientific Review; Amended Notice of Meeting

Notice is hereby given of a change in the meeting of the Center for Scientific Review Special Emphasis Panel, April 14, 2010, 2 p.m. to April 14, 2010, 4 p.m., National Institutes of Health, 6701 Rockledge Drive, Bethesda, MD 20892 which was published in the Federal Register on March 12, 2010, 75 FR 11895-11896.

The meeting time has been changed to 1 p.m. to 3 p.m. on April 14, 2010. The meeting date and location remain the same. The meeting is closed to the public.

Dated: March 16, 2010.
Jennifer Spaeth,
Director, Office of Federal Advisory Committee Policy.

[FR Doc. 2010-6302 Filed 3-22-10; 8:45 am]

BILLING CODE 4140-01-P